DEPARTMENT OF JUSTICE

[OMB Number 1124-0003]

Agency Information Collection Activities; Proposed eCollection eComments Requested; Extension With Change, of a Previously Approved Collection Amendment to Registration Statement of Foreign Agents (NSD-5)

AGENCY: Foreign Agents Registration Act (FARA) Unit, Counterintelligence and Export Control Section (CES), National Security Division (NSD), U.S. Department of Justice.

ACTION: 60-Day notice.

SUMMARY: The Department of Justice (DOJ), Foreign Agents Registration Act (FARA) Unit, Counterintelligence and Export Control Section (CES), National Security Division (NSD), will be submitting the following information collection request to the Office of Management and Budget (OMB) for review and approval in accordance with the Paperwork Reduction Act of 1995. The proposed information collection is published to obtain comments from the public and affected agencies.

DATES: Comments are encouraged and will be accepted for 60 days until April 7, 2017. This process is conducted in accordance with 5 CFR 1320.10.

FOR FURTHER INFORMATION CONTACT: If you have additional comments especially on the estimated public burden or associated response time, suggestions, or need a copy of the proposed information collection instrument with instructions or additional information, please contact Heather H. Hunt, Chief, Foreign Agents Registration Act (FARA) Unit, Counterintelligence and Export Control Section, National Security Division, 600 E Street NW., Bicentennial (BICN) Building—Room 1300, Washington, DC 20530 (phone: 202-233-0776).

SUPPLEMENTARY INFORMATION: Written comments and suggestions from the public and affected agencies concerning the proposed collection of information are encouraged. Your comments should address one or more of the following four points:

—Evaluate whether the proposed collection of information is necessary for the proper performance of the functions of the National Security Division, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Extension of a currently approved collection.

2. The Title of the Form/Collection: Amendment to Registration Statement (Foreign Agents).

3. The agency form number, if any, and the applicable component of the Department sponsoring the collection: The form number is NSD-5. The applicable component within the Department of Justice is the Foreign Agents Registration Act (FARA) Unit, Counterintelligence and Export Control Section, in the National Security Division. Pursuant to the Foreign Agents Registration Act of 1938, as amended, 22 U.S.C. 611 et seq. (FARA or the Act), the FARA registration forms previously submitted to OMB for 3 year renewal approvals, have since March 2011 contained fillable-fileable, and E-signature capabilities. The FARA eFile system, in operation since March 1, 2011, permits registrants to file their registration forms electronically to the FARA Registration Unit, 24 hours a day, seven days a week. FARA eFile is accessed via the Department's FARA public Web site located at https://www.fara.gov/efile.html, and provides instructions to assist registrants in completing, signing and submitting the required FARA registration forms, as well as instructions on how to electronically pay the required registration fees via online credit or debit card payments.

4. Affected public who will be asked or required to respond, as well as a brief abstract: Primary: Private Sector, Business or other for-profit, Not-for-profit institutions, and individuals. The form contains registration statement information used for registering foreign agents under the Foreign Agents Registration Act of 1938, as amended, 22 U.S.C. 611 et seq.

5. An estimate of the total number of respondents and the amount of time estimated for an average respondent to respond: The total estimated number of responses to the form is 255 at approximately 1.5 hours (1 hour and 30 minutes) per response, based on an average of FARA Amendment to Registration Statement filings received from January 1, 2014 through December 31, 2016. Internal sample testing shows an average of 1 hour and 30 minutes per respondent is needed to complete form NSD-5 (OMB 1124-0003). The following factors were considered when creating the burden estimate: the estimated total number of registrant respondents, the ability of registrants to access or gather the necessary data from sometimes multiple offices within their corporate structures, the review time necessary to identify errors of previously filed FARA registration forms now in need of amending via form NSD-5 with corresponding attached pages of amended disclosure responses, and the intuitive registration features NSD makes available for registrant respondents via the online FARA eFile registration and payment system located at https://www.fara.gov/efile.html. NSD estimates that nearly all of the approximately 255 respondents will fully complete the form.

6. An estimate of the total public burden (in hours) associated with the collection: The estimated public burden associated with this collection is 382.50 annual burden hours. It is estimated that respondents will take 1 hour and 30 minutes to complete the form. The burden hours for collecting respondent data equals 382.50 annual burden hours (255 respondents × 1 hours and 30 minutes (1.5 hours) = 382.50 hours).

7. Registrants/foreign agents and the general public are alerted that in the future, the National Security Division will complete its ongoing multi-year design review, testing, and requirements enhancement efforts to offer a Web form version of form NSD-5. NSD continues to make progress in enhancing the functionality of FARA eFile. Personnel are in the process of developing and testing new Web form versions of its current fillable FARA registration forms with the intent of providing greater standardization, improved intuitive features, and less burdensome requirements that will benefit registrants and foreign agents who are required to register under FARA. New capabilities are expected to improve online search capabilities. NSD is confident that the new features will offer an enhanced system, promoting greater transparency.

If additional information is required contact: Melody D. Braswell, Department Clearance Officer, United States Department of Justice, Justice Management Division, Policy and Planning Staff, Two Constitution Square, 145 N Street NE., 3E.405A, Washington, DC 20530.

Dated: February 1, 2017.
Melody D. Braswell,
Department Clearance Officer for PRA, U.S. Department of Justice.

[FR Doc. 2017-02396 Filed 2-3-17; 8:45 am]

BILLING CODE 4410-PF-P